DEPARTMENT OF EDUCATION

Migrant Education Coordination Program—Migrant Student Information Exchange (MSIX) State Data Quality Grants

AGENCY: Office of Elementary and Secondary Education, Department of Education.

ACTION: Notice of final requirements.

SUMMARY: The Assistant Secretary for Elementary and Secondary Education establishes the final requirements for Migrant Student Information Exchange (MSIX) State Data Quality grants funded under section 1308(b) of Title I, Part C of the Elementary and Secondary Education Act of 1965 (ESEA), as amended by the No Child Left Behind Act of 2001. Subject to the availability of funds in any fiscal year, the Department will use the requirements to make annual grant awards by formula, beginning in FY 2008, to provide additional resources to State educational agencies (SEAs) in order to assist them and their local operating agencies (LOAs) in implementing the interstate electronic exchange of migrant children's records through the Migrant Student Information Exchange (MSIX).

DATES: Effective Date: These requirements are effective August 22, 2008.

FOR FURTHER INFORMATION CONTACT: Alejandra Vélez-Paschke, U.S. Department of Education, 400 Maryland Avenue, SW., LBJ, room 3E249, Washington, DC 20202-6135. Telephone: (202) 260-2834 or via Internet: MsixTeam@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: Background: The Migrant Education Program (MEP), authorized in Title I, Part C, of the ESEA, is a State-operated, formula grant program under which SEAs receive funds to help improve the academic achievement of migratory children who reside in their States. Under section 1304(b)(3) of the ESEA, SEAs receiving MEP funds have a responsibility to carry out activities that promote the interstate and intrastate coordination of services for migratory children. This responsibility includes carrying out activities that provide for educational continuity through the timely transfer of pertinent school records, including health information, for migratory children whether or not they move during the regular school year.

Section 1308(b) of the ESEA requires, among other things, that the Department (1) Assist States in developing methods for the electronic transfer of migrant student records, (2) ensure the linkage of State electronic records-exchange systems, and (3) establish the minimum data elements (MDEs) that States must collect and maintain in their migrant student databases for the purpose of electronically exchanging health and educational records on migrant children. To meet these statutory responsibilities, on September 28, 2007, the Department established the MSIX. When fully operational, the MSIX will allow all States participating in the MEP (and all LOAs in those States) to share an established set of MDEs on their migrant children with any State and LOA in which a migrant child enrolls by electronically linking the States' existing migrant student databases. On November 27, 2007, the Office of Management and Budget (OMB) approved an information collection package (1810-0683) that establishes 66 MDEs.

We published a notice of proposed requirements for this program in the Federal Register on April 1, 2008 (73 FR 17341). The notice proposed that the Department establish a grant program under which, subject to the availability of funds in any fiscal year, the Department would make annual grant awards by formula beginning in FY 2008 to SEAs in order to provide additional resources to assist them and their LOAs in implementing the interstate exchange of migrant children's records electronically through MSIX. The notice of proposed requirements included a discussion of how SEAs could use these supplemental funds and a proposed formula for distributing available money to the SEAs that requested this assistance.

Except for some minor editorial and technical changes, there are two differences between the proposed requirements identified in that notice and the final requirements announced in this notice. These changes are explained in the following Analysis of Comments and Changes.

Analysis of Comments and Changes

In response to our invitation in the notice of proposed requirements, one party submitted comments on the proposed requirements. An analysis of the comments follows.

Generally, we do not address technical and other minor changes—and suggested changes we are not authorized to make under the applicable statutory authority.

Comment: One commenter recommended that the Department allow States that have already shown that they have met the MDE requirements and implemented MSIX to use the MSIX State Data Quality Grant funds for instructional services for migrant students under Title I, Part C.

Discussion: The Department appreciates the commenter's concerns. However, the Department proposed this new program in response to specific concerns expressed by representatives of many SEAs about the costs of connecting their State migrant information systems with MSIX and implementing related records exchange activities, and their strong desire for additional funds to help pay for these costs. Responding to this call for support, the Department proposed the MSIX State Data Quality Grants as a way to supplement SEA efforts to pay for expenses incurred by States in their efforts to link to and use the MSIX. The Department believes that the needs of States for this additional assistance is such that the entire $2 million that we proposed to set aside for MSIX-related activities should be devoted to this purpose. In this regard, as explained in the notice of proposed requirements (73 FR 17342), SEAs may use these funds for a wide variety of MSIX-related activities, both for the ongoing costs of maintaining records and for one-time costs incurred. Ongoing costs may include such activities as paying for additional data entry personnel hired to enter migrant student data into the State's migrant database, further MSIX training of new staff, and refresher training once live data are entered into the system. One-time costs may include the purchase of equipment, such as computers, to be used for entering migrant student data. The funds that are used for these MSIX-related activities will make MEP Basic Formula Grant funds, which otherwise would have been spent on MSIX-related activities, available for purposes of providing educational services to migrant children under Title I, Part C of the ESEA.

Because the statement of Requirement 1 as proposed may not have clarified that funds may be used for any of a variety of activities only if the activities relate to the use of MSIX for transferring MDEs, we have clarified this point.

Change: Requirement 1 is revised to clarify that SEAs may use MSIX State Data Quality grant funds for various activities only to the extent that these activities are related to the transfer of the MDEs to and through MSIX.

Comment: None.

Discussion: In the course of our internal review of the proposed requirements, we determined that the following sentence, included in the notice of proposed requirements under the heading Amount of the Grants, should be included in Requirement 4 because it relates to the formula for determining an SEA's share of grant funds.

If an SEA does not apply for these funds or does not receive a MEP Basic State formula grant in any given year, its share of grant funds would be distributed to the requesting SEAs on the basis of the formula established in the notice of final requirements.

Change: We have revised Requirement 4 to include the following sentence:

If an SEA does not apply for these funds or does not receive a MEP Basic State formula grant in any given year, its share of grant funds will be distributed to the requesting SEAs on the basis of the formula established in this notice of final requirements.

Note: This notice does not solicit applications. In any year in which we choose to use these requirements, we invite applications through a separate document that will be sent to States directly.

Requirements

Requirement 1—In consultation with the LOAs and the State's parent advisory council, each SEA will determine how these funds will be used in the State. SEAs must use these funds only to help pay for additional costs that their agencies and the LOAs in their States may assume for various activities related to the transfer of the MDEs to and through MSIX. Examples of these activities include:

(a) Enhancements to the State's migrant or State student database to ensure the inclusion of the MDEs in accordance with MSIX data specifications;

(b) Staffing or information technology (IT) services needed for the collection, data entry, and maintenance of the MDEs or the connectivity to MSIX;

(c) Development of manuals, procedures, pamphlets, or other materials that support the implementation of the State's records exchange program; and

(d) Support for activities directly related to staff training on the use of MSIX, including staff attendance and travel to MSIX meetings and workshops.

Requirement 2—Only an SEA that receives an MEP Basic State Formula grant award is eligible to receive an MSIX State Data Quality grant. To receive an MSIX State Data Quality grant, an SEA must submit a letter, signed by the Chief State School Officer or his or her authorized representative, (a) requesting an MSIX State Data Quality grant award, and (b) providing an assurance that these funds will be used only for activities that comport with the requirements in this notice of final requirements. In each fiscal year for which sufficient section 1308 funds are available, the Department will announce the estimated amount of each grant award and invite SEAs to submit their letters of application on or before a date that the Department specifies.

Requirement 3—These grant awards are subject to the financial reporting requirements in section 80.41 of the Education Department General Administrative Regulations (EDGAR) (34 CFR 80.41). With regard to performance reporting, the Department does not apply the provisions contained in section 80.40(b) of EDGAR. Instead, the Department will use program monitoring conducted in conjunction with the overall MEP Basic State Formula Grant program as a means of obtaining information, including supporting documentation, on how the SEA and LOAs in the State used MSIX State Data Quality grant funds to support MSIX-related activities. Monitoring activities will examine progress relative to the MSIX efficiency measure, which assesses the percentage of migrant student records that are consolidated when school enrollment has occurred in more than one State.

Requirement 4—Beginning in FY 2008 and in any subsequent fiscal year in which sufficient funds are available under section 1308, the Department will award these MSIX State Data Quality grants using the following formula:

• 75 percent of the total amount available will be awarded in equal amounts to each SEA with a MEP Basic State Formula grant award; and

• The remaining 25 percent of the funds will be awarded proportionally relative to the amount of each State's Basic MEP State Formula grant award amount made on July 1 of the fiscal year; except that

• No SEA may receive an MSIX State Data Quality grant award that exceeds 20 percent of its MEP Basic State Formula grant award.

If an SEA does not apply for these funds or does not receive a MEP Basic State formula grant in any given year, its share of grant funds will be distributed to the requesting SEAs on the basis of the formula established in this notice of final requirements.

Amount of the Grants

For FY 2008, the Department expects to award approximately $2 million for the MSIX State Data Quality grant awards. An appendix to this notice contains a table presenting the size of each State's FY 2008 award assuming that all eligible SEAs apply and that $2 million are available for FY 2008 awards. In subsequent fiscal years, the Department will inform the States of the total amount of funds available, if any, under this grant program.

Executive Order 12866

This notice of final requirements has been reviewed in accordance with Executive Order 12866. Under the terms of the order, we have assessed the potential costs and benefits of this regulatory action.

The potential costs associated with the notice of final requirements are those resulting from statutory requirements and those we have determined as necessary for administering this program effectively and efficiently.

In assessing the potential costs and benefits—both quantitative and qualitative—of this notice of final requirements, we have determined that the benefits of the final requirements justify the costs.

We have also determined that this regulatory action does not unduly interfere with State, local, and tribal governments in the exercise of their governmental functions.

We fully discussed the costs and benefits in the notice of proposed requirements.

Paperwork Reduction Act of 1995 (PRA)

The application procedure has been approved under OMB control number 1810-0683.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Statutory and Regulatory Requirements

This grant program is subject to the requirements established in this notice of final requirements and to the definitions used to determine the eligibility of a “migrant child” found in section 1309(2) of the ESEA and 34 CFR § 200.81. Consistent with the “Tydings Amendment” (section 421(b) of the General Education Provisions Act, and restated in section 76.709 of EDGAR), funds awarded under this program are available for obligation until September 30 of the fiscal year following the fiscal year in which they are awarded. Because it is a formula grant program, receipt of funds also is subject to the requirements of parts 76 and 80 of EDGAR (34 CFR parts 76 and 80).

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.144, Migrant Education Coordination Program).

Program Authority: 20 U.S.C. 6398.

Dated: July 18, 2008.
Kerri L. Briggs,
Assistant Secretary for Elementary and Secondary Education.

Appendix

Note: The estimated size of awards is based on the amount of FY 2008 MEP Basic State Grant awards issued on July 1, 2008, and assumes that (1) exactly $2 million will be available for FY 2008 MSIX State Data quality grant awards, and (2) each SEA with a Migrant Education Program Basic Formula Grant requests an award.

NATIONAL TOTALS | $2,000,000
ALABAMA | 33,039.00
ALASKA | 40,025.00
ARIZONA | 39,449.00
ARKANSAS | 37,580.00
CALIFORNIA | 216,509.00
COLORADO | 40,577.00
CONNECTICUT | 31,475.00
DELAWARE | 30,437.00
DIST. COLUMBIA | 0.00

Appendix

ESTIMATED PROPOSED AWARD AMOUNTS FOR THE FY 2008 MSIX STATE DATA QUALITY GRANTS
FLORIDA | $63,523.00
GEORGIA | 41,851.00
HAWAII | 31,089.00
IDAHO | 35,360.00
ILLINOIS | 32,819.00
INDIANA | 37,616.00
IOWA | 32,460.00
KANSAS | 47,023.00
KENTUCKY | 40,555.00
LOUISIANA | 33,549.00
MAINE | 31,557.00
MARYLAND | 30,773.00
MASSACHUSETTS | 32,384.00
MICHIGAN | 42,597.00
MINNESOTA | 32,471.00
MISSISSIPPI | 30,875.00
MISSOURI | 32,241.00
MONTANA | 31,404.00
NEBRASKA | 37,541.00
NEVADA | 30,331.00
NEW HAMPSHIRE | 28,094.00
NEW JERSEY | 32,998.00
NEW MEXICO | 31,275.00
NEW YORK | 43,935.00
NORTH CAROLINA | 38,454.00
NORTH DAKOTA | 30,326.00
OHIO | 33,635.00
OKLAHOMA | 31,519.00
OREGON | 44,086.00
PENNSYLVANIA | 43,389.00
RHODE ISLAND | 13,374.00
SOUTH CAROLINA | 30,790.00
SOUTH DAKOTA | 31,202.00
TENNESSEE | 30,782.00
TEXAS | 114,584.00
UTAH | 32,558.00
VERMONT | 30,896.00
VIRGINIA | 31,169.00
WASHINGTON | 52,452.00
WEST VIRGINIA | 16,147.00
WISCONSIN | 30,905.00
WYOMING | 30,320.00
PUERTO RICO | 0.00

[FR Doc. E8-16857 Filed 7-22-08; 8:45 am]

BILLING CODE 4000-01-P